SECURITIES AND EXCHANGE COMMISSION

[Release No. 34-52840; File No. 81-934]

Order Granting an Application of Global Industries, Ltd. Under Section 12(h) of the Securities Exchange Act of 1934

November 28, 2005.

Global Industries, Ltd. has filed an application under section 12(h) of the Securities Exchange Act of 1934, as amended. Global Industries has asked the Commission to extend the due date for Global Industries's Form 10-Q for the quarter ended September 30, 2005 to November 29, 2005. Global Industries states that its principal executive offices are located in Carlyss, Louisiana, which is within one of the Presidentially Declared Disaster Areas for both Hurricane Katrina and Hurricane Rita. In its application, Global Industries asserts that an extension of the due date for Global Industries's Form 10-Q for the quarter ended September 30, 2005 is necessary due to, among other things, the mandatory evacuations and the extraordinary disruptions to Global Industries's facilities, personnel, and information technology resources caused by Hurricane Rita.

On November 4, 2005, the Commission issued a notice of the filing of the application giving interested persons until November 25, 2005 an opportunity to request a hearing and stating that an order disposing of the application might be issued upon the basis of the information stated therein unless a hearing should be ordered. No request for a hearing has been filed and the Commission has not ordered a hearing.

The matter having been considered, it is found that the requested exemption is appropriate in the public interest and consistent with the protection of investors and the purposes fairly intended by the policy and provisions of the Exchange Act.

It is ordered, pursuant to section 12(h) of the Exchange Act, that the application to extend the due date for Global Industries's Form 10-Q for the quarter ended September 30, 2005 to November 29, 2005 be, and hereby is, granted, effective immediately.

For the Commission, by the Division of Corporation Finance, pursuant to delegated authority.
Jonathan G. Katz,
Secretary.

[FR Doc. E5-6729 Filed 11-30-05; 8:45 am]

BILLING CODE 8010-01-P